DEPARTMENT OF ENERGY

Federal Energy Regulatory Commission

[Docket No. RP03-544-001]

Texas Gas Transmission, LLC (formerly Texas Gas Transmission Corporation); Notice of Compliance Filing

August 25, 2003.

Take notice that on August 4, 2003, Texas Gas Transmission, LLC (Texas Gas) (formerly Texas Gas Transmission Corporation) tendered for filing as part of its FERC Gas Tariff, Second Revised Volume No. 1, the following tariff sheets, with an effective date of July 7, 2003:

First Revised Sheet No. 201.

First Revised Sheet No. 293.

Texas Gas states that the filing is an administrative filing. Texas Gas further states that the purpose the filing is to submit a tariff provision already accepted by the Commission for incorporation in Texas Gas's Second Revised Volume No. 1.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “eLibrary” (FERRIS) link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eLibrary (e-Filing) link.

Protest Date: September 2, 2003.

Linda Mitry,
Acting Secretary.

[FR Doc. 03-22219 Filed 8-29-03; 8:45 am]

BILLING CODE 6717-01-P